DEPARTMENT OF JUSTICE

Office of Justice Programs

Agency Information Collection Activities: Proposed collection; comments requested

ACTION: 30-Day Notice of Information Collection Under Review: Reinstatement, with change, of a previously approved collection for which approval has expired, Police Public Contact Survey.

The Department of Justice (DOJ), Office of Justice Programs has submitted the following information collection request to the Office of Management and Budget (OMB) for review and approval in accordance with the Paperwork Reduction Act of 1995. The proposed information collection is published to obtain comments from the public and affected agencies. This proposed information collection was previously published in the Federal Register Volume 67, Number 33, page 7379 on February 19, 2002, allowing for a 60 day comment period. The purpose of this notice is to allow for an additional 30 days for public comment until June 6, 2002. This process is conducted in accordance with 5 CFR 1320.10.

Written comments and/or suggestions regarding the items contained in this notice, especially the estimated public burden and associated response time, should be directed to The Office of Management and Budget, Office of Information and Regulatory Affairs, Attention Department of Justice Desk Officer, Washington, DC 20503. Additionally, comments may be submitted to OMB via facsimile to (202)-395-7285.

Request written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information

(1) Type of information collection: Reinstatement, with change, of previously approved collection for which approval has expired.

(2) The title of the form/collection: Police Public Contact Survey.

(3) The agency form number, if any, and the applicable component of the Department sponsoring the collection: PPCS-1. Bureau of Justice Statistics, Office of Justice Programs, United States Department of Justice.

(4) Affected public who will be asked or required to respond, as well as brief abstract: Primary: Eligible respondents to the survey must be age 16 or older. The Police Public Contact Supplement fulfills the mandate set forth by the Violent Crime Control and Law Enforcement Act of 1994 to collect, evaluate, and publish data on the use of excessive force by law enforcement personnel. The survey will be conducted as a supplement to the National Crime Victimization Survey in all sample households for six (6) month period. Other: None

(5) An estimate of the total number of respondents and the amount of time estimated for an average respondent to respond/reply: Of the 84,700 eligible persons, we expect approximately 80 percent of the eligible persons or 67,760 persons to complete only the first four (lead-in or screening questions) questions on the questionnaire. We expect the screeners to take approximately .033 hours (2 minutes) per person to administer. We expect that approximately 20 percent of the eligible persons or 16,940 persons will report contact with the police. We estimate an average of .167 hours (10 minutes) to ask the detailed questions regarding the nature of the contact.

(6) An estimate of the total public burden (in hours) associated with the collection: The total respondent burden is approximately 5,065 hours.

If additional information is required contact: Mrs. Brenda E. Dyer, Deputy Clearance Officer, United States Department of Justice, Information Management and Security Staff, Justice Management Division, Suite 1600, Patrick Henry Building, 601 D Street NW., Washington, DC 20530.

Dated: April 30, 2002.
Brenda E. Dyer,
Department Deputy Clearance Officer, United States Department of Justice.

[FR Doc. 02-11242 Filed 5-6-02; 8:45 am]

BILLING CODE 4410-18-M